DEPARTMENT OF HEALTH AND HUMAN SERVICES

Centers for Disease Control and Prevention

[60Day-14-14QJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to LeRoy, 1600 Clifton Road, MS-D74, Atlanta, GA 30333 or send an email to omb@cdc.gov.

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Hospital Preparedness for Public Health Emergencies and Mass Causality Events Project—New—National Center for Injury Prevention and Control (NCIPC), Centers for Disease Control and Prevention (CDC).

Background and Brief Description

Hospital preparedness for responding to public health emergencies including mass casualty incidents and epidemics have become a major national challenge. Following the World Trade Center attack of September 11, Hurricane Katrina of 2005, and the 2011 Alabama tornadoes, there is continued and heightened interest of using surveys to assess hospital readiness for various disasters and mass casualty incidents. Current patterns in terrorist activity increase the potential for civilian casualties from explosions. Explosions, particularly in confined spaces, can inflict severe multisystem injuries on numerous patients and produce unique challenges to health care providers and the systems that support them. The U.S. healthcare system and its civilian healthcare providers have minimal experience in treating patients with explosion-related injuries and deficiencies in response capability could result in increased morbidity and mortality and increased stress and fear in the community. Additionally, the surge of patients after an explosion typically occurs within minutes of the event and can quickly overwhelm nearby hospital resources. This potential for many casualties and an immediate surge of patients may stress and limit the ability of EMS systems, hospitals, and other health care facilities to care for critically injured victims.

CDC requests a 6-month Office of Management and Budget (OMB) approval to collect readiness and preparedness data. The purpose of this project will be to (1) develop and pilot an interview tool to assess hospital readiness for a rapid surge of large numbers of casualties; (2) develop minimum standards into the assessment tool to enable a review or an evaluation of hospital readiness and (3) develop strategies for dissemination and implementation of the interview tool.

A national sample of randomly selected hospitals will be selected for participation. Four hundred Chief Executive Officers (CEOs) from sampled hospitals will be mailed an introductory letter, contacted by telephone a few days later and asked if the hospital's emergency preparedness coordinator/manager can complete the survey. The time to read and respond to the introductory letter is expected to take 17 minutes. The emergency preparedness coordinator/manager will complete the main survey online using the survey Web site with a goal of 320 completed surveys. CDC estimated the total time required to complete the survey as two hours, including reading the instructions. The survey covers hospital preparedness efforts across departments, number of staff, participation in training and exercises, agreements with other responders, and hospital characteristics.

After data are gathered from the survey, responses will be compiled, analyzed and summarized. The results will be used to develop an implementation manual, training materials and dissemination plan for dissemination. A final study report will also be created.

There are no costs to respondents other than their time.

Estimated Annualized Burden Hours
Type of respondents | Form name | Number of respondents | Number of responses per respondent | Average burden per response (in hrs) | Total burden (in hrs)
CEO | Screen | 400 | 1 | 17/60 | 113
Emergency Preparedness Coordinator/Manager Survey | 320 | 1 | 2 | 640
Total |  |  |  |  | 753

Leroy A. Richardson,
Chief, Information Collection Review Office, Office of Scientific Integrity, Office of the Associate Director for Science, Office of the Director, Centers for Disease Control and Prevention.

[FR Doc. 2014-09762 Filed 4-29-14; 8:45 am]

BILLING CODE 4163-18-P